DEPARTMENT OF TRANSPORTATION

Federal Aviation Administration

14 CFR Part 71

[Docket No. FAA-2025-5108; Airspace Docket No. 25-AGL-17]

RIN 2120-AA66

Amendment of Class E Airspace; New Lexington, OH

AGENCY: Federal Aviation Administration (FAA), DOT.

ACTION: Final rule.

SUMMARY: This action amends the Class E airspace at New Lexington, OH. The name and geographic coordinates of Ed Newlon Field, New Lexington, OH, are also being updated to coincide with the FAA's aeronautical database. This action is the result of an airspace review conducted due to the decommissioning of the Zanesville very high frequency omnidirectional range (VOR) as part of the VOR Minimum Operational Network (MON) Program. It brings the airspace into compliance with FAA orders and supports instrument flight rule (IFR) procedures and operations.

DATES: Effective 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E airspace at the affected airport to support IFR operations.

History

The FAA published an NPRM for Docket No. FAA-2025-5108 in the Federal Register (90 FR 52578; November 21, 2025) proposing to amend the Class E airspace at New Lexington, OH. Interested parties were invited to participate in this rulemaking effort by submitting written comments on the proposal to the FAA. One comment was received from the Citizens Rulemaking Alliance.

Overall, the comment and accompanying petition are not applicable to the proposed airspace action; however, the following explanations are provided.

The comment and accompanying petition requested either that the final rule be withdrawn, an NPRM issued, and the effective date stayed, or that the FAA reopen the record for purposes of supplementation. The comment was written as if the FAA had never issued an NPRM. However, the comment and petition were submitted on the NPRM during the 45-day comment period, so the request has already been satisfied. A request to reopen a docket submitted through that very docket during the period when it was actively open for receiving comments is nonsensical. Accordingly, the comment appears at least partially unrelated to the instant action.

The petition also requests more detailed discussion regarding the FAA's analyses under the Regulatory Flexibility Act and Executive Order (E.O.) 12866. The FAA has met its legal obligations for this action under the aforementioned authorities. Although the FAA individually assesses each airspace action under all applicable law and guidance, it utilizes standardized language in routine airspace action rulemakings to ensure consistency and legal sufficiency, and to streamline drafting of regulatory documents in one of the agency's most prolific rulemaking portfolios. The use of such standard language is not an indication that the agency failed to perform the requisite analysis.

The petition further requests that the FAA provide analysis under other authorities inapplicable to the instant action, such as the Paperwork Reduction Act and the Unfunded Mandates Reform Act. The FAA declines to perform analysis or provide discussion beyond what is legally required. The airspace action rulemaking portfolio is one of the FAA's most prolific, and it is not feasible for the agency to perform work beyond what is legally required for each of these frequent and recurring actions.

Substantively, the petition also assumes that the expansion of the Class E airspace extending upward from 700 ft. above the surface at Beeville, TX, will impact IFR, VFR, and unmanned aircraft systems (UAS) operations. This Class E airspace is established as transitional airspace to/from terminal or enroute environments around airports with instrument procedures as required by FAA Order JO 7400.2R, Procedures for Handling Airspace Matters. For IFR traffic, the airspace contains the instrument procedures at the airport; however, no air traffic control services are provided and there are no communications requirements for VFR traffic, so there is little to no impact on VFR traffic. In fact, this Class E airspace provides notice to pilots that there are instrument procedures and potential IFR traffic in the area, increasing a pilot's situational awareness. As to the impact on UAS operations, no additional coordination or analysis is required.

Additionally, the petition recommends that the FAA publish a comparison table of the airspace legal description, before-and-after maps, and GIS shapefiles providing a comparative description of the changes to the airspace. The petition claims that, without such materials, “it is impossible for interested persons to ascertain whether the amendment expands or contracts controlled airspace”. The comment also requests that the FAA identify the instrument procedures that motivated the change, claiming that this information, as well as the requested comparative materials, “are standard in other airspace projects”.

The FAA has no specific legal duty to provide the requested comparative materials, and they are not routinely provided unless the airspace changes are unusually complex and an expanded explanation of the changes is necessary to allow for meaningful comment. In this case, the airspace change is relatively straightforward. The description of the proposed action within the NPRM makes it clear that the affected airspace is slightly expanded by specifically stating that the proposal would “increase the radius from 6.3 miles to 6.5 miles from the airport”. 90 FR 52578, 52579. The changes to the airspace legal description are also explained in detail both within the NPRM and this final rule. Lastly, there is only one instrument procedure at Ed Newlon Field, New Lexington, OH, so it is unnecessary to identify which procedure motivated the change.

Incorporation by Reference

Class E airspace designations are published in paragraph 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class E airspace extending upward from 700 ft. above the surface at New Lexington, Ohio, due to an airspace review conducted as part of the decommissioning of the Zanesville VOR as part of the VOR MON Program.

For the Ed Newlon Field, New Lexington, OH, Class E airspace extending upward from 700 ft. above the surface, this action: (1) increases the radius from 6.3 miles to 6.5 miles from the airport; (2) removes the city associated with the airport from the airspace legal description header to comply with changes to FAA Order JO 7400.2R; and (3) updates the name of the airport from Perry County Airport to Ed Newlon Field as well as updates the geographic coordinates of the airport to coincide with the FAA's aeronautical database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures,” Paragraph B-2.5(a). This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6005 Class E Airspace Areas Extending Upward From 700 Feet or More Above the Surface of the Earth.

* * * * *

AGL OH E5 New Lexington, OH [Amended]

Ed Newlon Field, OH

(Lat 39°41′30″ N, long 082°11′52″ W)

That airspace extending upward from 700 feet above the surface within a 6.5-mile radius of Ed Newlon Field.

* * * * *

Issued in Fort Worth, Texas, on January 20, 2026.
Courtney E. Johns,
Acting Manager, Operations Support Group, ATO Central Service Center.

[FR Doc. 2026-01170 Filed 1-21-26; 8:45 am]

BILLING CODE 4910-13-P